DEPARTMENT OF HEALTH AND HUMAN SERVICES

Centers for Disease Control and Prevention

[60Day-24-1329; Docket No. CDC-2023-0085]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies to comment on a continuing information collection, as required by the Paperwork Reduction Act of 1995. This notice invites comment on a proposed information collection project titled Promoting Adolescent Health through School-Based HIV/STD Prevention Reporting Templates. The data collection is designed to obtain detailed, specific, and consistent reporting measures to ensure that the Division of Adolescent and School Health (DASH) can determine the context, process, and effectiveness of program activities.

DATES: CDC must receive written comments on or before December 22, 2023.

ADDRESSES: You may submit comments, identified by Docket No. CDC-2023-0085 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Promoting Adolescent Health through School-Based HIV/STD Prevention Reporting Templates (OMB Control No. 0920-1329, Exp. 3/31/2024)—Revision—National Center for HIV, Viral Hepatitis, STD, and TB Prevention (NCHHSTP), Centers for Disease Control and Prevention (CDC).

Background and Brief Description

The Centers for Disease Control and Prevention (CDC) requests a one-year OMB approval to extend and revise the information collection titled, Promoting Adolescent Health through School-Based HIV/STD Prevention Reporting Templates. PS18-1807 Promoting Adolescent Health through School-Based HIV/STD Prevention was awarded August 1, 2018 with a six-year project period. It is funded through the Division of Adolescent and School Health (DASH).

Health behaviors during adolescence set the stage for behaviors and health into adulthood. In 2017, 40% of high school students in the US had ever had sexual intercourse and 29% were currently sexually active. Among currently sexually active students, 46% did not use a condom, and 14% did not use any method to prevent pregnancy the last time they had sexual intercourse. In 2016, young people aged 13-24 accounted for an estimated 21% of all new HIV diagnoses in the United States. Half of the nearly 20 million new STDs reported each year were among young people aged 15-24.

Schools have direct contact with over 50 million students for at least six hours a day over 13 key years of their social, physical, and intellectual development. Schools can help understand and prevent adolescent risk for HIV, STD, and teen pregnancy. Schools play an important role in HIV/STD prevention and can influence students' risk for HIV infection and other STDs through parental engagement, health education, connection to physical and mental health services, and connecting youth to each other and important adults.

The PS18-1807 award supports implementation of activities at multiple levels of the education system to achieve health goals. School curricula, policies, and services are generally locally determined by local education agencies (LEA), or local school districts, with guidance from state education agencies (SEA). LEA and SEA both provide training, resources, and technical assistance to schools. SEA establish supportive state environments for local decision making about school policies and practices. LEA support implementation of school-based strategies through district level actions and decisions. Recognizing the importance of locally tailoring approaches, PS18-1807 uses priority schools within a district, or LEA, as a natural laboratory for working through program implementation details before scaling up—or diffusing—activities to all schools in a district. This approach supports close connections with decision-makers responsible for educational options and school environments at each of these levels. Additional support from organizations with specialized expertise and capacity for national reach will be used to increase the impact of SEA and LEA strategies. They provide a range of highly trained experts for professional development and technical assistance to advance HIV/STD prevention work.

There are separate templates and work plans for Component 1 reporting and for Component 2 reporting. A total of 80 sites will be filling out the Component 1 reporting template and work plan; 25 sites will be filling out the Component 2 reporting template and work plans (required programmatic activities work plan and professional development work plan). CDC will add one additional question to the reporting template. The additional question is: “(If applicable) Publications: List publications resulting from the project, as well as plans for further publications.” The work plan template will not be modified.

The Component 1 information collection uses a self-administered reporting template to assess surveillance activities conducted by recipient education and health agencies funded by CDC/DASH under Component 1 of PS18-1807 Promoting Adolescent Health through School-Based HIV/STD Prevention. This data collection will provide DASH with data to generate internal reports that will identify successful and problematic surveillance areas. In addition, the information collection will allow DASH to determine if recipient agencies are completing the required activities of the NOFO on time, as well as identifying problems in implementation. With this information, DASH can ascertain if additional technical assistance is needed to help recipients improve their surveillance implementation if necessary. The reporting template will include questions on the following topics: Youth Risk Behavior Survey completion, and School Health Profiles (Profiles) completion. No personally identifiable information will be collected.

The Component 2 information collection uses a self-administered reporting template to assess HIV and STD prevention efforts conducted by local education agencies (LEA) funded by CDC/DASH under Component 2 of PS18-1807 Promoting Adolescent Health through School-Based HIV/STD Prevention. This data collection will provide DASH with data to generate internal reports that will identify successful and problematic programmatic areas. In addition, both information collections will allow DASH to determine if recipient agencies are completing the required activities of the NOFO on time, as well as identifying problems in implementation. With this information, DASH can ascertain if additional technical assistance is needed to help recipients improve their program implementation if necessary. In addition, the findings continue to allow CDC to determine the potential impact of currently recommended strategies and make changes to those recommendations if necessary. DASH was able to refine and target the technical assistance provided to recipient agencies to better ensure they completed their work plans and spent funds according to the original Notice of Funding Opportunity. The reporting template will include sections on the following topics: sexual health education (SHE), sexual health services (SHS), safe and supportive environments (SSE) required and additional activities. No personally identifiable information will be collected.

The estimated burden per response ranges from eight hours for Component 1 to 14 hours for Component 2. Recipients will complete the reporting templates every six months and the work plan templates once a year under this approval. Annualizing the collection over one year results in an estimated annualized burden of 3,320 burden hours for respondents. There are no costs to respondents other than their time.

Estimated Annualized Burden Hours
Type of respondents | Form name | Number of respondents | Number of responses per respondent | Average burden per response (in hours) | Total burden (in hours)
Surveillance Recipients (Program Managers) | Promoting Adolescent Health through School-Based HIV/STD Prevention Component 1 Reporting Template and Work Plan | 80 | 3 | 8 | 1,920
Local education agency HIV prevention recipients (Program Managers) | Promoting Adolescent Health through School-Based HIV/STD Prevention Component 2 Reporting Template and Work Plans (required programmatic activities work plan and professional development work plan) | 25 | 4 | 14 | 1,400
Total |  |  |  |  | 3,320

Jeffrey M. Zirger,
Lead, Information Collection Review Office, Office of Public Health Ethics and Regulations, Office of Science, Centers for Disease Control and Prevention.

[FR Doc. 2023-23340 Filed 10-20-23; 8:45 am]

BILLING CODE 4163-18-P